DEPARTMENT OF ENERGY

Federal Energy Regulatory Commission

Notice of Application for Non-Project Use of Project Lands and Waters and Soliciting Comments, Motions To Intervene, and Protests

March 31, 2005.

Take notice that the following application has been filed with the Commission and is available for public inspection:

a. Application Type: Non-project use of project lands and waters.

b. Project No.: 2503-085.

c. Date Filed: March 3, 2005.

d. Applicant: Duke Power, a division of Duke Energy Corporation.

e. Name of Project: Keowee-Toxaway Project.

f. Location: Lake Keowee is located in Oconee County, South Carolina. This project does not occupy any Tribal or Federal lands.

g. Filed Pursuant to: Federal Power Act, 16 U.S.C. 791(a), 825(r) and 799 and 801.

h. Applicant Contact: Mr. Joe Hall, Lake Management Representative; Duke Energy Corporation; P.O. Box 1006; Charlotte, NC 28201-1006; (704) 382-8576.

i. FERC Contact: Any questions on this notice should be addressed to Brian Romanek at (202) 502-6175 or by e-mail: Brian.Romanek@ferc.gov.

j. Deadline for Filing Comments and or Motions: April 29, 2005.

All documents (original and eight copies) should be filed with: Ms. Magalie R. Salas, Secretary, Federal Energy Regulatory Commission, 888 First Street, NE., Washington, DC 20426. Please include the project number (P-2503-085) on any comments or motions filed. Comments, protests, and interventions may be filed electronically via the Internet in lieu of paper. See, 18 CFR 385.2001(a)(1)(iii) and the instructions on the Commission's Web site under the “e-Filing” link. The Commission strongly encourages e-filings.

k. Description of Request: Duke Power, licensee for the Keowee-Toxaway Hydroelectric Project, has requested Commission authorization to lease to the Waterford Communities Owners Association and Crescent Communities, S.C., LLC 6.54 acres of project lands for a Commercial/ Residential Marina. The Waterford Community is located on Lake Keowee in Oconee County. The marina would consist of: (1) Three cluster docks that accommodate a total of twenty-four boats and one cluster dock that accommodates six boats for Waterford Ridge; (2) one cluster dock that accommodates fourteen boats and two cluster docks that accommodate eight boats each for Waterford Farms and; (3) nine cluster docks that accommodate ten boats each for Waterford Pointe. In total, one hundred and fifty boats would be accommodated. Duke also seeks authorization to approve the irrigation and boat pump-out facilities associated with this marina. The water withdrawal needs are expected to be 8,400 gallons per day. Duke also seeks authorization to allow the stabilization of 2,803 feet of shoreline with rip-rap.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions To Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, State, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E5-1635 Filed 4-7-05; 8:45 am]

BILLING CODE 6717-01-P